DEPARTMENT OF THE INTERIOR

Office of Surface Mining Reclamation and Enforcement

[Docket ID: OSM-2015-0002; S1D1SS08011000SX064A000156S180110;S2D2SS08011000SX064A00015X501520]

Stream Protection Rule; Draft Regulatory Impact Analysis

AGENCY: Office of Surface Mining Reclamation and Enforcement, Department of the Interior.

ACTION: Notice of Availability; Draft Regulatory Impact Analysis.

SUMMARY: We, the Office of Surface Mining Reclamation and Enforcement (OSMRE), are announcing that the draft regulatory impact analysis (RIA) of the potential economic and social impacts of the proposed stream protection rule and alternatives to that rule is available for public review and comment.

DATES: Electronic or Written Comments: We will accept electronic or written comments on or before September 25, 2015.

ADDRESSES: You may submit comments by any of the following methods:

Federal eRulemaking Portal: http://www.regulations.gov. The Docket ID for the draft RIA is OSM-2015-0002. Please follow the online instructions for submitting comments.

Mail/Hand-Delivery/Courier: Office of Surface Mining Reclamation and Enforcement, Administrative Record, Room 252 SIB, 1951 Constitution Avenue NW., Washington, DC 20240. Please include the appropriate Docket ID: OSM-2015-0002 for the draft regulatory impact analysis.

You may review the proposed rule, the draft environmental impact statement, and the draft regulatory impact analysis online at www.osmre.gov. You also may review these documents in person at the location listed below and at the addresses listed under SUPPLEMENTARY INFORMATION. Office of Surface Mining Reclamation and Enforcement, Administrative Record, Room 101 SIB, 1951 Constitution Avenue NW., Washington, DC 20240, 202-208-4264.

FOR FURTHER INFORMATION CONTACT: Mark Gehlhar, Office of Surface Mining Reclamation and Enforcement, U.S. Department of the Interior, 1951 Constitution Avenue NW., Washington, DC 20240. Telephone: 202-208-2716.

SUPPLEMENTARY INFORMATION:

Background

The draft RIA evaluates the economic and social costs and benefits of the proposed stream protection rule and its alternatives. The draft RIA was developed in accordance with Executive Order 12866—Regulatory Planning and Review, as modified by Executive Order 13563.

Significant advances in scientific knowledge and mining and reclamation techniques have occurred in the more than 30 years that have elapsed since the enactment of the Surface Mining Control and Reclamation Act of 1977, 30 U.S.C. 1201 et seq., and the adoption of federal regulations implementing that law. The primary purpose of the proposed stream protection rule is to update our regulations and provide regulatory certainty to industry using advances in scientific knowledge to minimize the adverse impacts of surface coal mining operations on surface water, groundwater, fish, wildlife, and related environmental values, with particular emphasis on protecting or restoring streams and aquatic ecosystems.

How do I comment on the draft RIA?

We invite the public to comment on the draft RIA during the 60-day comment period. Please see ADDRESSES and DATES for more information.

We will review and consider all comments submitted to www.regulations.gov or to the office listed under ADDRESSES by the close of the comment period (see DATES). We cannot ensure that comments received after the close of the comment period or at a location other than the office and Web site listed under ADDRESSES will be included in the docket for this draft RIA or considered in the development of a final RIA.

Please include the Docket ID “OSM-2015-0002” at the beginning of all comments on the draft RIA. Your comments should refer to a specific portion of the draft RIA (citation to the chapter, section, page, paragraph, and sentence to which your comment applies would be helpful), be confined to issues pertinent to the draft RIA, explain the reason for any recommended change or objection, and include supporting data when appropriate.

Before including your address, phone number, email address, or other personally identifiable information in your comment, you should be aware that your entire comment—including your personally identifiable information—may be made publicly available at any time. You may ask us in your comment to withhold your personally identifiable information from public review, but we cannot guarantee that we will be able to do so.

You may review the proposed rule, the draft environmental impact statement, and the draft regulatory impact analysis online at the Web sites listed in ADDRESSES or in person at the headquarters office location listed in ADDRESSES and at the following OSMRE regional, field, and area office locations:

Appalachian Regional Office

Three Parkway Center

Pittsburgh, Pennsylvania 15220

Phone: (412) 937-2828

Mid-Continent Regional Office

William L. Beatty Federal Building

501 Belle Street, Room 216

Alton, Illinois 62002

Phone: (618) 463-6460

Western Regional Office

1999 Broadway, Suite 3320

Denver, Colorado 80201

Phone: (303) 844-1401

Charleston Field Office

1027 Virginia Street, East

Charleston, West Virginia 25301

Phone: (304) 347-7158

Knoxville Field Office

710 Locust Street, 2nd floor

Knoxville, Tennessee 37902

Phone: (865) 545-4103

Lexington Field Office

2675 Regency Road

Lexington, Kentucky 40503

Phone: (859) 260-3900

Beckley Area Office

313 Harper Park Drive

Beckley, West Virginia 25801

Phone: (304) 255-5265

Harrisburg Area Office

215 Limekiln Road

New Cumberland, Pennsylvania 17070

Phone: (717) 730-6985

Albuquerque Area Office

100 Sun Avenue NE

Pan American Building, Suite 330

Albuquerque, New Mexico 87109

Phone: (505) 761-8989

Casper Area Office

Dick Cheney Federal Building

150 East B Street

Casper, Wyoming 82601

Phone: (307) 261-6550

Birmingham Field Office

135 Gemini Circle, Suite 215

Homewood, Alabama 35209

Phone: (205) 290-7282

Tulsa Field Office

1645 South 101st East Avenue, Suite 145

Tulsa, Oklahoma 74128

Phone: (918) 581-6430

Dated: July 7, 2015.
Sterling Rideout,
Assistant Director, Program Support.

[FR Doc. 2015-17292 Filed 7-24-15; 8:45 am]

BILLING CODE P